NATIONAL AERONAUTICS AND SPACE ADMINISTRATION

[Notice: (18-060)]

NASA Advisory Council; Human Exploration and Operations Committee; Meeting.

AGENCY: National Aeronautics and Space Administration.

ACTION: Notice of meeting.

SUMMARY: In accordance with the Federal Advisory Committee Act, as amended, the National Aeronautics and Space Administration (NASA) announces a meeting of the Human Exploration and Operations Committee of the NASA Advisory Council (NAC). This Committee reports to the NAC.

DATES: Monday, August 27, 2018, 10:00 a.m.-5:00 p.m.; and Tuesday, August 28, 2018, 8:00 a.m.-2:45 p.m., PDT. Joint meeting with the NAC Science Committee on August 28, 2018.

ADDRESSES: NASA Ames Research Center, NASA Ames Conference Center, Building 3, 500 Severyns Road, Ballroom Meeting Room, Moffett Field, CA 94035.

FOR FURTHER INFORMATION CONTACT: Dr. Bette Siegel, Designated Federal Officer, Human Exploration and Operations Mission Directorate, NASA Headquarters, Washington, DC 20546, (202) 358-2245, or bette.siegel@nasa.gov.

SUPPLEMENTARY INFORMATION: The meeting will be open to the public up to the capacity of the room. This meeting is also available telephonically and by WebEx. You must use a touch-tone phone to participate in this meeting. Any interested person may dial the USA toll free conference call number 1-888-324-9238 or toll access number 1-517-308-9132, passcode 3403297, followed by the # sign to participate in this meeting by telephone. The WebEx link is https://nasa.webex.com/, the meeting number is 996 163 984, and the password is Exploration@2018 (case sensitive).

The agenda for the meeting includes the following topics:

—Status of Human Exploration and Operations

—International Space Station

—Exploration Systems Development

—Commercial Crew and Launch Readiness Process

—Gateway and Cis-Lunar Activities

—Transformative Lunar Science

For NASA Ames Research Center visitor access, please go through the Main Gate and show a valid government-issued identification (i.e., driver's license, passport, etc.) to the security guard. Inform the security guard that you are attending a meeting in Building 3. Attendees will also be required to sign a register prior to entering the meeting room. It is imperative that the meeting be held on these dates to the scheduling priorities of the key participants.

Carol J. Hamilton,
Acting Advisory Committee Management Officer, National Aeronautics and Space Administration.

[FR Doc. 2018-16967 Filed 8-7-18; 8:45 am]

BILLING CODE 4510-13-P